DEPARTMENT OF ENERGY

Federal Energy Regulatory Commission

[Project No. 2392-040]

Ampersand Gilman Hydro, LP; Notice Soliciting Scoping Comments

Take notice that the following hydroelectric application has been filed with the Commission and is available for public inspection.

a. Type of Application: New Major License.

b. Project No.: P-2392-040.

c. Date Filed: March 29, 2022.

d. Applicant: Ampersand Gilman Hydro, LP.

e. Name of Project: Gilman Hydroelectric Project.

f. Location: The project is located on the Connecticut River and straddles the Village of Gilman, within the Town of Lunenburg, Essex County, Vermont, and the Town of Dalton, Coos County, New Hampshire.

g. Filed Pursuant to: Federal Power Act 16 U.S.C. 791(a)-825(r).

h. Applicant Contact: Mr. Sayad Moudachirou, Licensing Manager, 717 Atlantic Avenue, Suite 1A, Boston, MA 02111; (617) 933-7206 or sayad@ampersandenergy.com.

i. FERC Contact: Ousmane Sidibe, (202) 502-6245 or ousmane.sidibe@ferc.gov.

j. Deadline for filing scoping comments: April 8, 2024.

The Commission strongly encourages electronic filing. Please file scoping comments using the Commission's eFiling system at https://ferconline.ferc.gov/FERCOnline.aspx. Commenters can submit brief comments up to 6,000 characters, without prior registration, using the eComment system at https://ferconline.ferc.gov/.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the following on the first page: Gilman Hydroelectric Project (P-2392-040).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The application is not ready for environmental analysis at this time.

l. The existing Gilman Hydroelectric Project consists of: (1) a 38.3-foot-high, 324.5-foot-wide concrete gravity dam with a crest elevation of 826.8 feet (NGVD29) that includes: (a) a 5-foot-high, 108-foot-long rubber bladder along an overflow spillway on the New Hampshire side of the dam; (b) a 6.5-foot-high, 109-foot-long rubber bladder along the overflow spillway on the Vermont side of the dam; and (c) an 18-foot-high, 27-foot-wide hydraulically operated crest gate; (2) a 130-acre project reservoir with a storage capacity of 705 acre-feet at a normal maximum surface elevation of 833.3 feet; (3) a brick and steel/timber-framed powerhouse integral to the dam on the Vermont side that contains four generating turbine units with a total generating capacity of 4.95 megawatts; (4) a 242-foot-long, 23.75-foot-wide trash rack with approximately 2-inch spacing and 11 wooden or steel head gates that span 117 feet across the upstream face of the powerhouse; (5) a downstream fish passage facility that diverts and guides fish to a 5-foot-wide bypass at the dam controlled by a tilting gate that releases water a 5-foot-deep plunge pool immediately downstream of the dam; (6) a tailrace channel; (7) a 34.5-kilovolt, 200-foot-long transmission line connecting to the grid; and (8) appurtenant facilities.

Ampersand Gilman Hydro, LP proposes to continue to operate the project in a run-of-river mode with no storage or flood control capacity. In accordance with Condition A of the Vermont Department of Environmental Conservation's water quality certification issued for the project, the project adheres to the following downstream minimum flow release requirements: (1) from June 1 through October 15, whenever inflow to the project is 1,000 cubic feet per second (cfs) or less, maintain a continuous downstream minimum flow of 210 cfs or inflow to the project, whichever is less; (2) when inflow falls below 600 cfs, conduct dissolved oxygen sampling downstream of the dam to determine whether additional flow release is necessary; and (3) in instances of operational issues or should the need to refill the impoundment, maintain a minimum instantaneous flow of 757 cfs until normal operations can be restored. The project can operate in most of the extreme conditions of the Connecticut River and generate electricity from flows of 130 cfs up to high flood conditions of 35,000 cfs. The estimated average annual generation of the project from 2008 to 2018 is 25,000 megawatt-hours.

m. Copies of the application can be viewed on the Commission's website at https://www.ferc.gov using the “eLibrary” link. Enter the project's docket number excluding the last three digits in the docket number field to access the document. For assistance, contact FERC Online Support at FERCOnlineSupport@ferc.gov.

You may also register at https://ferconline.ferc.gov/FERCOnline.aspx to be notified via email of new filings and issuances related to this or other pending projects. For assistance, please contact FERC Online Support at FERCOnlineSupport@ferc.gov.

n. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

o. Scoping Process.

Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS. At this time, we do not anticipate holding an on-site scoping meeting. Instead, we are soliciting written comments and suggestions on the preliminary list of issues and alternatives to be addressed in the NEPA document, as described in scoping document 1 (SD1), issued March 8, 2024.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: March 8, 2024.
Debbie-Anne A. Reese
Acting Secretary.

[FR Doc. 2024-05415 Filed 3-13-24; 8:45 am]

BILLING CODE 6717-01-P